DEPARTMENT OF LABOR

Employment and Training Administration

Agency Information Collection Activities; Comment Request; Workforce Innovation and Opportunity Act (WIOA) DOL-Only Performance Accountability, Information, and Reporting System

AGENCY: Employment and Training Administration (ETA), Labor.

ACTION: Notice.

SUMMARY: The Department of Labor (DOL), Employment and Training Administration (ETA) is soliciting comments concerning proposed extension for the authority to conduct the information collection request (ICR) titled, “Workforce Innovation and Opportunity Act (WIOA) Performance Accountability, Information and Reporting System.” This comment request is part of continuing Departmental efforts to reduce paperwork and respondent burden in accordance with the Paperwork Reduction Act of 1995 (PRA).

DATES: Submit written comments to the office listed in the addresses section below on or before July 24, 2017.

ADDRESSES: Comments submitted in response to this notice should be submitted electronically through the Federal eRulemaking Portal at http://www.regulations.gov by selecting Docket ID number ETA-2017-0002 or via postal mail, commercial delivery, or hand delivery. A copy of the ICR with applicable supporting documentation; including a description of the likely respondents, proposed frequency of response, and estimated total burden may be obtained free of charge from http://www.regulations.gov or by contacting Herman L. Quilloin III by telephone at 202-693-3994 (this is not a toll-free number) or by email at Quilloin.Herman@dol.gov. Individuals with hearing or speech impairments may access the telephone number above via TTY by calling the toll-free Federal Information Relay Service at 1-877-889-5627 (TTY/TDD). Fax: 202-693-2766.

Mail and hand delivery/courier: Send written comments to Herman L. Quilloin III, Office of Policy Development and Research, Room N5641, Employment and Training Administration, U.S. Department of Labor, 200 Constitution Avenue NW., Washington, DC 20210. Due to security-related concerns, there may be a significant delay in the receipt of submissions by United States Mail. You must take this into consideration when preparing to meet the deadline for submitting comments.

Comments submitted in response to this comment request will become a matter of public record and will be summarized and included in the request for Office of Management and Budget (OMB) approval of the information collection request. In addition, comments, regardless of the delivery method, will be posted without change on the http://www.regulations.gov Web site; consequently, the Department recommends commenters not include personal information such as a Social Security Number, personal address, telephone number, email address, or confidential business information that they do not want made public. It is the responsibility of the commenter to determine what to include in the public record.

FOR FURTHER INFORMATION CONTACT: Herman L. Quilloin III by telephone at 202-693-3994 (this is not a toll-free number) or by email at Quilloin.Herman@dol.gov.

SUPPLEMENTARY INFORMATION:

I. Background

The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Section 116 of WIOA requires States that operate core programs of the publicly-funded workforce system to comply with common performance accountability requirements. As such, States that operate core programs must submit common performance data to demonstrate that specified performance levels are achieved.

The data collections in this ICR fulfill requirements in WIOA Sec. 116(d)(1) which mandates that the Secretaries of Labor and Education develop a template for the annual performance reports to be used by States, local boards, and of training services for reporting on outcomes achieved by the WIOA programs. Pursuant to WIOA sec. 116(d)(2), required annual data for the core programs include, among others, those related to primary performance indicators, participant counts and costs, and barriers to employment. The Department proposes to amend the information collection by making changes to the Participant Individual Record Layout (ETA-9172), (Program) Performance Report (ETA-9173) and the Pay-for-Performance Report (ETA-9174) to facilitate State quarterly performance reporting.

This notice includes several documents—the ETA (Program) Performance Report, the WIOA Pay-for-Performance Report, the Participant Individual Record Layout (PIRL), and the WIOA Data Element Specifications. The Department requires states to certify and submit the ETA (Program) Performance Report to ETA on a quarterly basis and the Pay-for-Performance report(s) will be collected annually. ETA will aggregate the information the States submit through the PIRL to populate the ETA (Program) Performance Report, which ETA will then send to the States to confirm their accuracy. Each program included in this ICR will generate its own quarterly Performance Report.

The ETA (Program) Performance Report and WIOA Pay-for-Performance Report have been designed to maximize the value of the reports for workers, jobseekers, employers, local elected officials, State officials, Federal policymakers, and other key stakeholders. The PIRL has been designed to reflect the specific requirements of the annual reports as described in WIOA section 116(d)(2) through (4).

ETA will use the data to track total participants, characteristics, services, training strategies and outcomes for employed, unemployed and long-term unemployed participants. This data collection format permits program offices to evaluate program effectiveness, monitor compliance with statutory requirements, and analyze participant activity and grantee performance while complying with OMB efforts to streamline Federal performance reporting.

Under WIOA section 116(d)(6), the Secretary of Labor is required to annually make available (including by electronic means), in an easily understandable format, (a) the State Annual Performance Reports containing the information described in WIOA section 116 (d)(2) and (b) a summary of the reports, and the reports required under WIOA section 116 (d)(6) (the State Performance, Local Area, and Eligible Training Provider Reports), to the Committee on Education and the Workforce of the House of Representatives and the Committee on Health, Education, Labor, and Pensions of the Senate.

The reports and other analyses of the data will be made available to the public through publication and other appropriate methods and to the appropriate congressional committees through copies of such reports. In addition, information obtained through the Workforce Performance Accountability, Information, and Reporting System will be used at the national level during budget and allocation hearings for DOL compliance with the Government Performance and Results Act and other legislative requirements, and during legislative authorization proceedings.

Under this collection, participation will be measured based on the count of individuals who meet the definition of a “participant”—e.g., those who have received staff-level services within the program year. An individual should be considered to have exited after they have gone 90 days without service, and with no future services scheduled. Should they return for additional services after the 90 days—within the same program year and exit in that same program year—the individual's exit date will be changed to reflect only the last exit date in that program year. If the individual exits in a subsequent program year, they would be counted as a new participant for purposes of that subsequent program year. Counting unique individuals in this manner will allow an unduplicated count of participants in the accountability and reporting system. The Department understands that this may affect quarterly reporting results and counts of services rendered early in the program year, particularly for programs whose current reporting practices differ from what is described above. As such, we greatly encourage your comments on the potential impact on individual states and local areas of this and all other items discussed in this package.

As mentioned above, as part of its effort to streamline program performance reporting, the Department added the performance information collection requirements for the SCSEP to this information collection. The Older Americans Act Reauthorization Act of 2016 (OAA-2016) amended the SCSEP core indicators of performance, and it requires those amended indicators to be implemented by regulation by December 31, 2017. SCSEP will retain its current ICR (under OMB Control Number 1205-0040) for non-performance data elements and will implement the OAA-2016 performance measures' information collection under this ICR upon completion of rulemaking. This ICR may receive OMB approval before Final Rules implementing the OAA-2016 SCSEP measures are published. If this occurs, the Department will submit another ICR for this collection to OMB to incorporate the Final Rule citations, as required by 5 CFR 1320.11(h). Those citations currently do not exist and, therefore, cannot be included at this time. The Department plans to review and analyze any comments received in response to this Federal Register Notice in order to finalize the substantive information collection requirements to the extent legally possible.

II. Review Focus

The Department as part of its effort to streamline program performance reporting is (1) making grammar edits, code fields, and instructions revisions; (2) deleting data elements no longer required by ETA, (3) adding data elements needed by ETA, and (4) adding the performance information collection requirements for the Senior Community Service Employment Program (SCSEP).

The Department is particularly interested in comments that:

• Evaluate whether the proposed collection of information is necessary for the proper performance of the functions of the agency, including whether the information will have practical utility;

• evaluate the accuracy of the agency's estimate of the burden of the proposed collection of information, including the validity of the methodology and assumptions used;

• can further help to create an integrated data element layout between ETA-funded programs;

• enhance the quality, utility, and clarity of the information to be collected; and

• minimize the burden of the collection of information on those who are to respond, including through the use of appropriate automated, electronic, mechanical, or other technological collection techniques or other forms of information technology (e.g., permitting electronic submissions of responses).

III. Current Actions

Type of Review: Revision.

Title: Workforce Performance Accountability, Information, and Reporting System.

OMB Number: 1205-0521.

Affected Public: State, Local, and Tribal Governments; Individuals or Households; and Private Sector—businesses or other for-profits and not-for-profit institutions.

Frequency: Quarterly, Annually.

Estimated Total Annual Respondents: 947.

Estimated Total Annual Responses: 17,360,446.

Estimated Total Annual Burden Hours: 4,495,212.

Total Estimated Annual Other Costs Burden: $17,100,000.

Approval of this information collection request is required so that the states, locals, and other entities can begin programming their management information systems in order to enable them to collect the necessary data to implement the data collection and reporting requirements of section 116 in accordance with the WIOA statute.

Byron Zuidema,
Deputy Assistant Secretary for Employment and Training Administration, Labor.

[FR Doc. 2017-10500 Filed 5-22-17; 8:45 am]

BILLING CODE 4510-FN-P